DEPARTMENT OF ENERGY

Federal Energy Regulatory Commission

[Docket No. RP03-424-001]

Canyon Creek Compression Company; Notice of Compliance Filing

June 24, 2003.

Take notice that on June 19, 2003, Canyon Creek Compression Company (Canyon) tendered for filing to be part of its FERC Gas Tariff, Third Revised Volume No. 1, Substitute Third Revised Sheet No. 163 to be effective July 1, 2003.

Canyon states that the purpose of this filing is to comply with the Commission's Letter Order in Docket No. RP03-424-000 issued on June 12, 2003 (Order). No tariff change other than that required by the Order is reflected in this filing.

Canyon states that copies of the filing are been mailed to each person designated on the official service list.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 1, 2003.

Magalie R. Salas,
Secretary.

[FR Doc. 03-16444 Filed 6-27-03; 8:45 am]

BILLING CODE 6717-01-P